Title 3—

The President

Proclamation 7956 of November 2, 2005

National American Indian Heritage Month, 2005

By the President of the United States of America

A Proclamation

National American Indian Heritage Month honors the many contributions and accomplishments of American Indians and Alaska Natives. During November, we remember the legacy of the first Americans and celebrate their vibrant and living traditions.

The American Indian experience is central to the American story, and my Administration is committed to helping Native American cultures across the United States continue to flourish. One of the most important ways to ensure a successful future is through education. Over the past 4 years, my Administration has provided more than $1 billion for the construction and renovation of Bureau of Indian Affairs schools. We also offer direct assistance for educator and counselor training to help make sure every classroom has a qualified teacher and every child has the tools he or she needs to succeed. As we work with tribal leaders to provide students with a superior education that respects the unique culture and traditions of the community, we can help ensure every child has the opportunity to realize their dreams.

To enhance energy opportunities and strengthen tribal economies, my Administration is working to ease the regulatory barriers associated with tribal energy development. In August, I signed the Energy Policy Act of 2005, allocating $2 billion in the form of grants, loans, and loan guarantees for exploration, development, and production of energy. This legislation will help ensure that latest energy technologies are being used throughout our country.

Since the earliest days of our Republic, Native Americans have played a vital role in our country's freedom and security. From the Revolutionary War scouts to the Code Talkers of World War II, Native Americans have served in all branches of America's Armed Forces. Today, that proud tradition continues, with Native Americans bravely defending our country in Operations Enduring Freedom and Iraqi Freedom and helping to spread liberty around the world. America is grateful to all our service men and women who serve and sacrifice in the defense of freedom.

Our young country is home to an ancient, noble, and enduring native culture, and my Administration recognizes the defining principles of tribal sovereignty and the right to self-determination. By working together, government to government, on important education, economic, and energy initiatives, we can strengthen America and build a future of hope and promise for all Native Americans. This month, we pay tribute to the American Indians and Alaska Natives who continue to shape our Nation. I encourage all citizens to learn more about the rich heritage of Native Americans.

NOW, THEREFORE, I, GEORGE W. BUSH, President of the United States of America, by virtue of the authority vested in me by the Constitution and laws of the United States, do hereby proclaim November 2005 as National American Indian Heritage Month. I call upon all Americans to commemorate this month with appropriate programs and activities.

IN WITNESS WHEREOF, I have hereunto set my hand this second day of November, in the year of our Lord two thousand five, and of the Independence of the United States of America the two hundred and thirtieth.

B

[FR Doc. 05-22296

Filed 11-4-05; 9:20 am]

Billing code 3195-01-P